DEPARTMENT OF TRANSPORTATION

Office of the Secretary

Fitness Determination of Arizona Express Airlines, Inc.

AGENCY: Department of Transportation.

ACTION: Notice of Order to Show Cause (Order 2002-6-7), Docket OST-01-10529.

SUMMARY: The Department of Transportation is proposing to find that Arizona Express Airlines, Inc., is fit, willing, and able, to provide commuter air service under 49 U.S.C. 41738.

RESPONSES: Objections and answers to objections should be filed in Docket OST-01-10529 and addressed to the Department of Transportation Dockets, PL-401, 400 Seventh Street, SW., Washington, DC 20590, and should be served on all persons listed in Attachment A to the order. Persons wishing to file objections should do so no later than July 1, 2002.

FOR FURTHER INFORMATION CONTACT: Ms. Delores King, Air Carrier Fitness Division (X-56, Room 6401), U.S. Department of Transportation, 400 Seventh Street, SW., Washington, DC 20590, (202) 366-2343.

Dated: June 17, 2002.
Read C. Van De Water,
Assistant Secretary for Aviation, and International Affairs.

[FR Doc. 02-15797 Filed 6-21-02; 8:45 am]

BILLING CODE 4910-62-P